DEPARTMENT OF JUSTICE

Notice of Lodging of Consent Decree Under the Comprehensive Environmental Response, Compensation, and Liability Act

Notice is hereby given that on May 2, 2002, a proposed Consent Decree in United States v. Stallworth Timber Co., Inc., Civil Action No. 02-0864 was lodged with the United States District Court for the Western District of Louisiana.

In this action the United States sought response costs pursuant to Comprehensive Environmental Response, Compensation, and Liability Act (“CERCLA”) Section 107, 42 U.S.C. 9607. The proposed Consent Decree resolves civil claims of the United States against Stallworth Timber Company, Inc. (“Stallworth”), the former owner and operator at the time of disposal of hazardous substance at the American Creosote Works, Inc. Superfund Site (the “Site”) located in the City of Winnfield, Winn Parish, Louisiana. Under the proposed Consent Decree, Stallworth agrees to pay $100,000 of the United States' past response costs related to the Site in installment payments over the course of four years.

The Department of Justice will receive for a period of thirty (30) days from the date of this publication comments relating to the Consent Decree. Comments should be addressed to the Assistant Attorney General, Environment and Natural Resources Division, P.O. Box 7611, U.S. Department of Justice, Washington, D.C. 20044-7611, and should refer to United States v. Stallworth Timber Co., Inc. (W.D.La.), D.J. Ref. 90-11-3-07436.

The Consent Decree may be examined at the Office of the United States Attorney, Western District of Louisiana, 800 Lafayette Street, Lafayette Louisiana, and at the offices of U.S. Environmental Protection Agency Region 6, 1445 Ross Ave, Suite 1200, Dallas, Texas. A copy of the Consent Decree may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $7.00 (25 cents per page reproduction cost) payable to the U.S. Treasury.

Thomas Mariani,
Assistant Chief, Environmental Enforcement Section, Environment and Natural Resources Division.

[FR Doc. 02-13627 Filed 5-30-02; 8:45 am]

BILLING CODE 4410-15-M